FEDERAL COMMUNICATIONS COMMISSION

47 CFR Part 73

[DA 04-2054; MM Docket No. 02-136; RM-10458, RM-10663, RM-10667, RM-10668]

Radio Broadcasting Services; Aberdeen, WA, Arlington, OR, Astoria, OR, Bellingham, WA, College Place, WA, Coos Bay, OR, Covington, WA, Forks, WA, Fossil, OR, Gladstone, OR, Hermiston, OR, Hoquiam, WA, Ilwaco, WA, Kent, WA, Long Beach, WA, Manzanita, OR, Moro, OR, Portland, OR, Shoreline, WA, Springfield-Eugene, OR, Tillamook, OR, The Dalles, OR, Trout Lake, WA, Walla Walla, WA

AGENCY: Federal Communications Commission.

ACTION: Final rule.

SUMMARY: In response to Counterproposals in this proceeding filed by New Northwest Broadcasters LLC and jointly filed by Triple Bogey, this document grants multiple channel substitutions, channel allotments and changes of community of license in Oregon and Washington. Specifically, this document substitutes Channel 226C3 for Channel 225C1 at Astoria, Oregon, reallots Channel 226C3 to Gladstone, Oregon, and modifies the Station KAST-FM license to specify operation on Channel 226C3 at Gladstone. See 67 FR 42216, June 21, 2002. In order to accommodate the Channel 226C3 allotment at Gladstone, this document substitutes Channel 230C2 for Channel 229C at Portland, Oregon, and modifies the Station KPDQ license to specify operation on Channel 230C2. See SUPPLEMENTARY INFORMATION.

DATES: Effective August 24, 2004.

FOR FURTHER INFORMATION CONTACT: Robert Hayne, Media Bureau (202) 418-2177.

SUPPLEMENTARY INFORMATION: This is a synopsis of the Report and Order in MM Docket No.02-136 adopted July 7, 2004, and released July 9, 2004. The full text of this decision is available for inspection and copying during normal business hours in the FCC Reference Information Center at Portals II, CY-A257, 445 12th Street, SW., Washington, DC. The complete text of this decision may also be purchased from the Commission's copy contractor, Best Copy and Printing, Inc., Portals II, 445 12th Street, SW., Room CY-B402, Washington, DC 20554, telephone 1-800-378-3160, or www.BCPIWEB.com. The Commission will send either a copy or abstract of this Report and Order in a report to be sent to Congress and the General Accounting Office pursuant to the Congressional Review Act, see 5 U.S.C. 801(a)(1)(A).

This document also substitutes Channel 227C for Channel 226C at Springfield-Eugene, Oregon, and modifies the license of Station KKNU to specify operation on Channel 227C. In order to accommodate Channel 230C2 at Portland, it substitutes Channel 232C3 for Channel 231C3 at Tillamook, Oregon, and modifies the Station KTIL license to specify operation on Channel 232C3. In order to accommodate Channel 232C3 at Tillamook, this document substitutes Channel 224A for Channel 232A at Long Beach, Washington, and modifies the Station KAQX license to specify operation on Channel 224A. This document allots Channel 228C3 to Manzanita, Oregon, and Channel 259A to Ilwaco, Washington. This document also substitutes Channel 283C3 for Channel 283C at The Dalles, Oregon, reallotts Channel 283C3 to Covington, Oregon, and modifies the Station KMCQ license to specify Covington as the community of license. This document allots Channel 261C2 to Arlington, Oregon, Channel 283C2 to Moro, Oregon, and Channel 236A to Trout Lake, Washington. Finally, this document denies proposals filed by Two Hearts Communications, LLC and Triple Bogey, LLC. The reference coordinates for the Channel 230C2 allotment at Portland, Oregon, are 45-30-58 and 122-43-59. The reference coordinates for the Channel 227C allotment at Springfield-Eugene, Oregon, are 44-00-04 and 123-06-45. The reference coordinates for the Channel 225A allotment at Coos Bay, Oregon, are 43-21-15 and 124-14-34. The reference coordinates for the Channel 232C3 allotment at Tillamook, Oregon, are 45-27-59 and 123-55-11. The reference coordinates for the Channel 224A allotment at Long Beach, Washington, are 46-18-51 and 124-03-07. The reference coordinates for the Channel 228C3 allotment at Manzanita, Oregon, are 45-41-05 and 123-54-38. The reference coordinates for the Channel 259A allotment at Ilwaco, Washington, are 46-18-32 and 124-02-31. The reference coordinates for the Channel 283C3 allotment at Covington, Washington, are 47-12-02 and 112-00-27. The reference coordinates for the Channel 261C2 allotment at Arlington, Oregon, are 45-43-01 and 120-11-59. The reference coordinates for the Channel 283C2 allotment at Moro, Oregon, are 45-29-03 and 120-43-48. The reference coordinates for Channel 236A at Trout Lake, Washington, are 46-03-10 and 121-33-47.

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Oregon, is amended by adding Arlington, Channel 261C2, by removing Astoria, Channel 225C1, by removing Channel 228A and adding Channel 225A at Coos Bay, by adding Covington, Channel 283C3, by adding Gladstone, Channel 226C3, by adding Manzanita, Channel 228C3, by adding Moro, Channel 283C1, by removing Channel 229C and adding Channel 230C2 at Portland, by removing Channel 226C and adding Channel 227C at Springfield-Eugene, by removing Channel 283C at The Dalles, by removing Channel 231C3 and adding Channel 232C3 at Tillamook.

3. Section 73.202(b), the Table of FM Allotments, under Washington, is amended by adding Channel 259A at Ilwaco, by removing Channel 232A and adding Channel 224A at Long Beach, by adding Trout Lake, Channel 236A.

Federal Communications Commission.
John A. Karousos,
Assistant Chief, Audio Division, Media Bureau.

[FR Doc. 04-16603 Filed 7-20-04; 8:45 am]

BILLING CODE 6712-01-P>